NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before December 3, 2004. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: records.mgt@nara.gov.

FAX: 301-837-3698.

Requesters must cite the control number, which appears in parentheses after the name of the agency which submitted the schedule, and must provide a mailing address. Those who desire appraisal reports should so indicate in their request.

FOR FURTHER INFORMATION CONTACT: Paul M. Wester, Jr., Director, Life Cycle Management Division (NWML), National Archives and Records Administration, 8601 Adelphi Road, College Park, MD 20740-6001. Telephone: 301-837-3120. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Forest Service (N1-95-04-1, 7 items, 4 temporary items). Data files from the Rocky Mountain Research Station's Fire Regimes for Fuels Management and Fire Use Databases for the period 1986-2000. Also included are electronic copies of records created using electronic mail and word processing. Proposed for permanent retention are the 1999 versions of the National Fire Occurrence, Federal and State Lands Databases, and the Geographic Information System Data Layers, 2000, and the related system documentation.

2. Department of the Air Force, Agency-wide (N1-AFU-04-4, 6 items, 5 temporary items). Records relating to the disposition of remains of deceased foreign nationals, civilian employees of the agency, and family members of Air Force personnel. Included are such records as copies of death certificates, personal property inventories, instructions for the shipment of remains, and files relating to payments made for funerals and interments. Electronic copies of records created using electronic mail and word processing are also included. Recordkeeping copies of files relating to Air Force military personnel are proposed for permanent retention.

3. Department of the Army, Agency-wide (N1-AU-04-7, 4 items, 4 temporary items). Quality of information program claims records. Included are such records as requests for information corrections, replies, appellants' requests for reviews of denials, and final adjudication notices. Also included are electronic copies of documents created using electronic mail and word processing. This schedule also authorizes the agency to apply the proposed disposition instructions to any recordkeeping medium.

4. Department of Homeland Security, Transportation Security Administration (N1-560-04-10, 10 items, 6 temporary items). Routine correspondence, copies of Freedom of Information Act requests, background files relating to policy development, and project files accumulated by the Office of Operations Policy. Also included are electronic copies of records created using electronic mail and word processing. Proposed for permanent retention are recordkeeping copies of such records as policy statements, SOPs, and security directives.

5. Department of Housing and Urban Development, Agency-wide (N1-207-04-3, 15 items, 13 temporary items). Records relating to Department-wide grant programs including selection process records, award agreement case files, working papers, program support files, general subject and chronological correspondence files, and reference copies of policy records. Also included are electronic copies of records created using electronic mail and word processing. Proposed for permanent retention are recordkeeping copies of policy files and financial award deliverables.

6. Department of Justice, Federal Bureau of Investigation (N1-65-04-6, 8 items, 8 temporary items). Technical records relating to the administration and operation of the agency's public Web site. Included are such records as server of origin logs, snapshots of the site, templates that record how information was displayed, logs of site traffic, and technical policies and standards. Electronic copies of records created using electronic mail and word processing are also included.

7. Department of Justice, Bureau of Prisons (N1-129-04-8, 7 items, 7 temporary items). Inputs, outputs, master files, and documentation associated with the agency's Millennium System, an electronic system used to support business activities of Federal Prison Industries. This system contains information concerning such matters as schedules of deliveries from suppliers, returns of rejected orders, and the creation of production orders. Electronic copies of records created using electronic mail and word processing are also included.

8. Department of Justice, Bureau of Prisons (N1-129-04-9, 3 items, 3 temporary items). Inputs, outputs, and master files associated with an electronic system that is used for the display and evaluation of archived data generated by the Millennium System.

9. Department of Labor, Office of Inspector General (N1-174-03-3, 22 items, 14 temporary items). Records accumulated by the Inspector General, including such records as schedules of daily activities, telephone logs, routine Congressional correspondence, drafts and other transitory files used to create recordkeeping files, and electronic copies of documents created using electronic mail and word processing. Proposed for permanent retention are recordkeeping copies of such records as Congressional testimony, minutes of meetings with Congressional committees, speeches, and publications.

10. Department of Transportation, Bureau of Transportation Statistics (N1-398-04-2, 4 items, 4 temporary items). Files documenting assistance agreements with other entities, including other Federal agencies, academic institutions, and state and local governments. Records relate to grants, cooperative agreements, inter-agency agreements, and other types of program support agreements. Included are such records as documentation of significant actions and decisions, justifications, cost estimates, scope of work statements, applications, and close-out documentation for completed agreements. Also included are electronic copies of records created using electronic mail and word processing. This schedule authorizes the agency to apply the proposed disposition instructions to any recordkeeping medium. Excluded are final products and deliverables, which are scheduled separately.

11. Department of Transportation, Bureau of Transportation Statistics (N1-398-04-7, 6 items, 5 temporary items). Records relating to articles submitted to professional and trade journals. Included are such records as working papers and background materials, manuscripts that do not relate to the agency's mission or substantive programs, and electronic copies of records created using electronic mail and word processing. Proposed for permanent retention are recordkeeping copies of final mission-related manuscripts.

12. Department of the Treasury, Financial Management Service (N1-425-04-4, 11 items, 11 temporary items). Records of the Debt Management Services Division relating to debt collection activities. Included are such records as delinquent debtor case files, notices sent to individuals and businesses concerning pending debt actions, and a database used to track inquiries about debt collection actions. Electronic copies of records created using electronic mail and word processing are also included.

13. Environmental Protection Agency, Office of Prevention, Pesticides, and Toxic Substances (N1-412-04-13, 3 items, 3 temporary items). Test method evaluation records, including such records as methods reports, laboratory data and original test method data submitted by companies, and non-reportable data relating to the analysis of environmental samples and food, feed, and pesticide products. Also included are electronic copies of documents created using electronic mail and word processing.

14. Tennessee Valley Authority, Fossil Power Group (N1-142-04-5, 4 items, 4 temporary items). Records relating to managing heavy equipment. Included are such records as rental and billing documents, requisitions, inventories, orders, and reports. Electronic copies of records created using electronic mail and word processing are also included.

Dated: October 13, 2004.
Michael J. Kurtz,
Assistant Archivist for Records Services—Washington, DC.

[FR Doc. 04-23353 Filed 10-18-04; 8:45 am]

BILLING CODE 7515-01-P